SMALL BUSINESS ADMINISTRATION

[Declaration of Disaster #P077]

State of Alaska

As a result of the President's major disaster declaration for Public Assistance on November 15, 2004, the U.S. Small Business Administration is activating its disaster loan program only for private non-profit organizations that provide essential services of a governmental nature. I find that the Bering Strait Regional Education Attendance Area and Northwest Arctic Borough in the State of Alaska constitute a disaster area due to damages caused by a severe winter storm, tidal surges and flooding occurring on October 18 through 20, 2004. Applications for loans for physical damage as a result of this disaster may be filed until the close of business on January 14, 2005, at the address listed below or other locally announced locations: U.S. Small Business Administration, Disaster Area 4 Office, P.O. Box 419004, Sacramento, CA 95841-9004.

| Percent
For Physical Damage:
Non-Profit Organizations Without Credit Available Elsewhere | 2.900
Non-Profit Organizations With Credit Available Elsewhere | 4.875

The number assigned to this disaster for physical damage is P07706.

(Catalog of Federal Domestic Assistance Program Nos. 59008).
Dated: November 19, 2004.
Allan I. Hoberman,
Acting Associate Administrator for Disaster Assistance.

[FR Doc. 04-26571 Filed 12-1-04; 8:45 am]

BILLING CODE 8025-01-P